DEPARTMENT OF ENERGY

Federal Energy Regulatory Commission

[Project No. 2169-013 North Carolina—Tennessee]

Alcoa Power Generating, Inc.; Notice of Availability of Draft Environmental Assessment

July 14, 2000.

A draft environmental assessment (EA) is available for public review. The EA analyzes the environmental effects of a request to amend the license to authorize upgrades of turbines and generators at three of the four developments of the Tapoco Hydroelectric Project located on the Little Tennessee and Cheoah Rivers, in Graham and Swain Counties, North Carolina, and Blount and Monroe Counties, Tennessee. The project utilizes approximately 370 acres Nantahala National Forest lands. The Tapoco Hydroelectric Project includes the following reservoirs: Santeetlah, Cheoah, Calderwood, and Chilhowee.

The EA was written by staff in the Office of Energy Projects, Federal Energy Regulatory Commission. The proposed upgrade would not constitute a major federal action significantly affecting the quality of the human environment. Copies of the EA can be viewed on the web at www.ferc.fed.us/online/rims.htm. Call (202) 208-2222 for assistance. Copies are also available for inspection and reproduction at the Commission's Public Reference Room located at 888 First Street, NE, Room 2A, Washington, DC 20426, or by calling (202) 208-1371.

Anyone may file comments on the EA. The public, federal and state resource agencies are encouraged to provide comments. All written must be filed within 30 days of the issuance date of this notice shown above. Send an original and eight copies of all comments marked and with the project number P-2169-013 to: The Secretary, Federal Energy Regulatory Commission, 888 First Street, NE, Washington, DC 20426. If you have any questions regarding this notice, please contact R. Feller at telephone: (202) 219-2796 or e-mail: rainer.feller@ferc.fed.us

Linwood A. Watson, Jr.,
Acting Secretary.

[FR Doc. 00-18301 Filed 7-19-00; 8:45 am]

BILLING CODE 6717-01-M